DEPARTMENT OF THE INTERIOR

Fish and Wildlife Service

[FWS-R2-ES-2010-N064; 20124-1113-0000-C2]

Endangered and Threatened Wildlife and Plants; Attwater's Prairie-Chicken (Tympanuchus cupido attwateri) Recovery Plan, Second Revision

AGENCY: Fish and Wildlife Service, Interior.

ACTION: Notice of document availability: revised recovery plan.

SUMMARY: We, the U.S. Fish and Wildlife Service (Service), announce the availability of the Attwater's Prairie-Chicken (Tympanuchus cupido attwateri) Recovery Plan, Second Revision. A recovery plan was originally completed for the Attwater's prairie-chicken in 1983 and revised in 1993.

ADDRESSES: An electronic copy of the recovery plan can be obtained from our website at http://www.fws.gov/southwest/es/Library/. Copies of the recovery plan are also available by request. To obtain a copy, contact Terry Rossignol by U.S. mail at Attwater Prairie Chicken National Wildlife Refuge, P.O. Box 519, Eagle Lake, TX 77434; by phone at (979) 234-3021; or by e-mail at Terry_Rossignol@fws.gov.

FOR FURTHER INFORMATION CONTACT: Terry Rossignol (see ADDRESSES).

SUPPLEMENTARY INFORMATION:

Background

The Endangered Species Act of 1973 (Act), as amended (16 U.S.C. 1531 et seq.), requires the development of recovery plans for listed species, unless such a plan would not promote the conservation of a particular species. Recovery plans help guide the recovery effort by describing actions considered necessary for the conservation of the species, and estimating time and costs for implementing the measures needed for recovery. A recovery plan was originally completed for the Attwater's prairie-chicken in 1983 and revised in 1993, but the recommendations contained in those plans are outdated.

Section 4(f) of the Act requires that we provide public notice and an opportunity for public review and comment during recovery plan development. In fulfillment of this requirement, we made the draft second revision of the recovery plan for Attwater's prairie-chicken available for public comment from November 19, 2007, through January 18, 2008 (November 19, 2007; 72 FR 65058). We also conducted peer review at this time. Based on this input, we revised and finalized the recovery plan, and summarized public comments in an appendix.

The Attwater's prairie-chicken was listed as endangered with risk of extinction in 1967 (March 11, 1967; 32 FR 4001). This listing was “grandfathered” into the Endangered Species Act of 1973. The Attwater's prairie-chicken represents the southernmost subspecies of Tympanuchus cupido and currently occurs in the wild at only three locations: The Attwater Prairie Chicken National Wildlife Refuge (Colorado County, Texas), the Texas City Prairie Preserve (Galveston County, Texas), and a private ranch in Goliad County, Texas. Annual counts are conducted every spring on the prairie-chicken's booming grounds, and approximately 90 birds remained in these 3 populations as of March 2009. Counts for 2010 will be conducted in April. In addition, approximately 157 individuals were held in captivity at the Abilene Zoo (Abilene, Texas), Caldwell Zoo (Tyler, Texas), Fossil Rim Wildlife Center (Glen Rose, Texas), Houston Zoo (Houston, Texas), San Antonio Zoo (San Antonio, Texas), Sea World of Texas (San Antonio, Texas), and Texas A&M University (College Station, Texas) as of December 31, 2009.

Habitat destruction and degradation are the primary factors contributing to historic population declines. Current threats include extremely small populations, habitat and population fragmentation resulting in genetic isolation, diseases and parasites in both wild and captive settings, inability of captive breeding facilities to produce large numbers of captive-reared birds that are capable of survival and reproduction in wild habitats, and poor brood survival in wild populations. Attwater's prairie-chicken recovery must be focused on three primary areas: (1) Habitat management, (2) captive and wild population management, and (3) public outreach.

Authority: The authority for this action is section 4(f) of the Endangered Species Act, 16 U.S.C. 1533(f).

Dated: March 17, 2010.
Benjamin N. Tuggle,
Regional Director, Region 2.

[FR Doc. 2010-9605 Filed 4-23-10; 8:45 am]

BILLING CODE 4310-55-P